DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending May 17, 2013. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0104.

Date Filed: May 14, 2013.

Due Date for Answers, Conforming Applications, or Motion to Modify Scope: June 4, 2013.

Description: Application of Marco Aviation, Inc. requesting a certificate of public convenience and necessity to engage in scheduled interstate carriage of passengers, freight and mail.

Docket Number: DOT-OST-2013-0105 and DOT-OST-2013-0106.

Date Filed: May 14, 2013.

Due Date for Answers, Conforming Applications, or Motion to Modify Scope: June 4, 2013.

Description: Application of Western Global Airlines, L.L.C. requesting a certificate of public convenience and necessity authorizing it to conduct foreign charter air transportation of property and mail with large aircraft.

Barbara J. Hairston,
Acting Program Manager, Docket Operations, Federal Register Liaison.

[FR Doc. 2013-13147 Filed 6-3-13; 8:45 am]

BILLING CODE 4910-9X-P